DEPARTMENT OF COMMERCE

National Oceanic and Atmospheric Administration

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its Joint Hawaii, Marianas and American Samoa Archipelago Plan Team (Joint PT) and the Council's Fishery Data Collection and Research Committee—Technical Committee (FDCRC-TC). The Joint PT will review the status of the nearshore fisheries, data collection and research issues and improvements, evaluation of the 2014 catch and Annual Catch Limit (ACL) specifications, developing a Cooperative Research framework and review the essential fish habitat (EFH) and habitat area of particular concern criteria for the Western Pacific Region. The FDCRC-TC will review the status of the data collection projects, determine priority tasks, schedule, and assignments as well as develop an omnibus FDCRC proposal.

DATES: The Joint PT meeting on April 14, 2015, and the FDCRC-TC meeting April 16-17, 2015. For specific times and agendas, see SUPPLEMENTARY INFORMATION.

ADDRESSES: The Joint PT and FDCRC-TC meetings will be held at the Council office, 1164 Bishop Street, Suite 1400, Honolulu, HI 96813; telephone: (808) 522-8220.

FOR FURTHER INFORMATION CONTACT: Kitty M. Simonds, Executive Director; telephone: (808) 522-8220.

SUPPLEMENTARY INFORMATION: Public comment periods will be provided. The order in which agenda items are addressed may change. The meetings will run as late as necessary to complete scheduled business.

Schedule and Agenda for the Joint PT Meeting

April 14, 2015—8:30 a.m.-5 p.m.

1. Welcome and introductions

2. Approval of draft agenda & assignment of rapporteurs

3. Report on previous Plan Team recommendations and Council actions

4. 2014 annual report modules

A. American Samoa coral reef, crustacean and bottomfish fishery

B. Guam coral reef, crustacean and bottomfish fishery

C. CNMI coral reef, crustacean and bottomfish fishery

D. Hawaii coral reef, crustacean, and bottomfish fishery

5. Annual Catch Limits

A. Evaluating 2014 catches to its respective 2014 ACLs (Action Item)

B. Discussions

C. Public Comment

6. Report on Data Collection and Research Projects

A. Seasonal run fishery data collection

B. Improving commercial vendor reporting

C. Abundance estimation of Hawaii akule using aerial surveys

D. Determining biological reference points

E. Productivity and susceptibility analysis of the coral reef fisheries

F. Discussions

G. Public Comment

7. Update Cooperative Research and developing priorities

A. Background on NMFS Cooperative Research Program

B. Developing a framework for Cooperative Research in WP region

C. Discussions

D. Public Comment

8. Review of the Essential Fish Habitat and Habitat Areas of Particular Concern Science Review and PIRO Recommendations

A. Background and current status

B. Options for HAPC Designation—Application of EFH Final Rule Considerations

C. Discussions

D. Public Comment

9. General Discussions

10. Archipelagic Plan Team Recommendations

11. Other Business

Schedule and Agenda for the FDCRC-TC Meeting:

April 16, 2015—8:30 a.m.-5 p.m.

1. Welcome and introductions

2. Approval of draft agenda

3. Report on accomplishments from the last FDCRC-TC meeting

4. Report on Data Collection and Research Projects

A. Seasonal run fishery data collection

B. Improving commercial vendor reporting

C. Status of CNMI data collection projects

i. Tinian fishery data collection

ii. Mandatory reporting

iii. Fishery Information System electronic reporting

D. Status of the AS and CNMI genetic projects

E. Determining essential fish habitat for coral reef fish

5. Moving towards a comprehensive database system and modern day reporting

A. Alaska Fishery Information Network: engine for science and management

B. Digital Deck: Utilizing mobile technology for reporting catch

C. SHINYAPP: Flexibility in report generation

D. Discussions

E. Public Comment

6. Review of the strategic plan and taking the step forward

A. Species and fishery prioritization

B. Funding source identification

C. Prioritizing tasks

D. Assignment of funding source

7. General Discussions

8. Archipelagic FDCRC Technical Committee Recommendations

9. Other Business

April 17, 2015—8:30 a.m.-5 p.m.

10. Work session overview

A. Coverage of the work session

B. Sample proposals and funding FFOs

C. Project assignment

11. Drafting of project narratives

12. Developing timelines and performance monitoring standards

13. Adjourn

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: March 25, 2015.
Tracey L. Thompson,
Acting Deputy Director, Office of Sustainable Fisheries, National Marine Fisheries Service.

[FR Doc. 2015-07156 Filed 3-27-15; 8:45 am]

BILLING CODE 3510-22-P